DEPARTMENT OF THE INTERIOR

National Park Service

Notice of Inventory Completion for Native American Human Remains and Associated Funerary Objects in the Possession of the U.S. Department of the Interior, National Park Service, Rocky Mountain National Park, Estes Park, CO

AGENCY: National Park Service, Interior.

ACTION: Notice.

Notice is hereby given in accordance with provisions of the Native American Graves Protection and Repatriation Act (NAGPRA), 43 CFR 10.9, of the completion of an inventory of human remains and associated funerary objects in the possession of the U.S. Department of the Interior, National Park Service, Rocky Mountain National Park, Estes Park, CO.

This notice is published as part of the National Park Service's administrative responsibilities under NAGPRA, 43 CFR 10.2 (c). The determinations within this notice are the sole responsibility of the National Park Service unit that has control or possession of these Native American human remains and associated funerary objects. The Assistant Director, Cultural Resources Stewardship and Partnerships is not responsible for the determinations within this notice.

A detailed inventory and assessment of the human remains has been made by professional staff of the National Park Service in consultation with representatives of the Ute Indian Tribe of the Uintah & Ouray Reservation, Utah; Arapahoe Tribe of the Wind River Reservation, Wyoming; Cheyenne-Arapaho Tribes of Oklahoma; and Jicarilla Apache Tribe of the Jicarilla Apache Indian Reservation, New Mexico.

In 1935, human remains representing one individual were discovered near the Thompson River entrance to the park. No known individual was identified. No associated funerary objects are present.

Soils at Rocky Mountain National Park are highly acidic and not conducive to the prolonged preservation of organic materials. Most bone left in this type of soil tends to disintegrate within approximately 100 years. The human remains discovered near the Thompson River entrance to the park are in fairly good condition, suggesting that they were most likely deposited during the historic period. The Uintah or Ouray Ute, Arapaho, and Jicarilla Apache are known to have occupied the park in historic times.

Based on the above-mentioned information, the Rocky Mountain National Park superintendent has determined that, pursuant to 43 CFR 10.2 (d)(1), the human remains listed above represent the physical remains of one individual of Native American ancestry. The Rocky Mountain National Park superintendent also has determined that, pursuant to 43 CFR 10.2 (e), that there is a relationship of shared group identity that can be reasonably traced between these Native American human remains and either the Ute Indian Tribe of the Uintah & Ouray Reservation, Utah; Arapahoe Tribe of the Wind River Reservation, Wyoming; Cheyenne-Arapaho Tribes of Oklahoma; or Jicarilla Apache Tribe of the Jicarilla Apache Indian Reservation, New Mexico.

This notice has been sent to officials of the Ute Indian Tribe of the Uintah & Ouray Reservation, Utah; Arapahoe Tribe of the Wind River Reservation, Wyoming; Cheyenne-Arapaho Tribes of Oklahoma; and Jicarilla Apache Tribe of the Jicarilla Apache Indian Reservation, New Mexico. Representatives of any other Indian tribe that believes itself to be culturally affiliated with these human remains should contact Superintendent A. Durand Jones, Rocky Mountain National Park, Estes Park, CO 80517, telephone (970) 586-1332, before July 18, 2001. Repatriation of the human remains to the Ute Indian Tribe of the Uintah & Ouray Reservation, Utah; Arapahoe Tribe of the Wind River Reservation, Wyoming; Cheyenne-Arapaho Tribes of Oklahoma; and Jicarilla Apache Tribe of the Jicarilla Apache Indian Reservation, New Mexico may begin after that date if no additional claimants come forward.

Dated: May 10, 2001.
John Robbins,
Assistant Director, Cultural Resources Stewardship and Partnerships.

[FR Doc. 01-15307 Filed 6-15-01; 8:45 am]

BILLING CODE 4310-70-F